DEPARTMENT OF HEALTH AND HUMAN SERVICES

Office of the Secretary, Assistant Secretary for Planning and Evaluation; Notice of Funding Availability for Policy and Research Grants (State Innovation Grants)

AGENCY: The Office of the Assistant Secretary for Planning and Evaluation (ASPE), HHS.

ACTION: Notice of grant competition.

SUMMARY: The Office of the Assistant Secretary for Planning and Evaluation announces its intention to conduct a grant competition for ASPE State Innovation Demonstration Grants. This competition is limited to current recipients of FY 2002 ASPE State Innovation Planning Grants.

The Catalog of Federal Domestic Assistance Number: The CFDA number is 93.239.

Closing Date: The closing date for submitting applications under this announcement is August 18, 2003. Please email Brenda Benesch at Brenda.Benesch@hhs.gov by July 8, 2003 to inform the government of your intent to submit an application. Please include the proposed title of the project and the name of the agency submitting the application. Providing notice of intent to submit is not a requirement for submitting an application. However, a notice of intent to submit will help the federal government in planning for the review process.

Mailing Address: Applications should be submitted to be determined.

You will receive email confirmation to notify you that your application was received within 14 days of the closing date. If you do not receive confirmation within 14 days of the closing date, please contact to be determined at the address above.

The printed Federal Register notice is the only official program announcement.

FOR FURTHER INFORMATION CONTACT: Administrative questions should be directed to be determined at the address or phone number listed above. Administrative questions will be accepted and responded to up to ten working days prior to closing date of receipt of applications. Technical questions should be directed to Brenda Benesch, either by telephone (202-260-0382), fax (202-690-6562), e-mail (Brenda.Benesch@hhs.gov) or in writing at the following address, Office of the Assistant Secretary for Planning and Evaluation, Department of Health and Human Services, 200 Independence Avenue, SW., Room 450G, Hubert H. Humphrey Building, Washington, DC 20201. If you send your question(s) in writing, please call to confirm receipt. Technical questions will be accepted and responded to up to ten working days prior to the closing date of receipt of applications.

Application Materials: Application materials are included in this package and are also available from the ASPE World Wide Web site: http://aspe.hhs.gov/funding.htm or by calling to be determined.

SUPPLEMENTARY INFORMATION: This program announcement consists of five parts: Part I: Background—Legislative authority, Background information, Purpose, Technical assistance and process evaluation; Part II: Project and Applicant Eligibility—Eligible applicants, Available funds, Budget and project period, and Matching requirements; Part III: The Review Process—Intergovernmental review, Initial screening, and Competitive review and evaluation criteria; Part IV: The Application—Application development, Application submission, Disposition of applications, and Components of a complete application; Part V: Questions and Answers.

Part I. Background

A. Legislative Authority

This announcement is authorized by section 1110 of the Social Security Act (42 U.S.C. 1310) and section 310 of the Public Health Service Act and awards will be made from funds appropriated under the Consolidated Appropriations Resolution, 2003 (Pub. L. 108-7).

B. Background Information

In FY 2002 ASPE awarded state innovation demonstration grants to five states and planning grants to ten states to help them implement or develop innovative approaches for providing health and human services more efficiently. Planning grants were awarded for up to a 17-month project period. The following planning grants were awarded:

• Alaska Department of Health and Social Sciences— “Planning for Comprehensive Early Childhood Mental Health in Alaska”;

• Arizona Department of Health Services— “Arizona Diabetic Patient Self-Management Project”;

• Arkansas Department of Human Services— “Improving Transitions from the Institutions into the Community”;

• Delaware Health and Social Services— “Self-Directed Supports for Community Living”;

• District of Columbia Department of Health— “DC Youth Violence Prevention Initiative-”;

• Iowa Department of Human Services— “Healthy Marriage/Responsible Fatherhood”;

• Kansas Department of Social and Rehabilitation Services— “Child Welfare Wrap Around Service Delivery”;

• Maryland Department of Aging— “Changing Interagency Service Delivery Systems to Help Older Public Housing Residents”;

• New Hampshire State Department of Health and Human Services— “Granite State Data Archive”; and

• South Carolina Department of Social Services— “Keep Them Home: An Adult Protective Service Program.”

C. Purpose

ASPE has determined that building on the efforts already underway is the most efficient use of the Fiscal Year 2003 state innovative grant funds. Since fiscal limitations prevent use from funding all ten planning grantees to move into a second-year, transitional planning/demonstration phase, we plan to conduct a limited competition among the planning grantees in order to select 2-3 that will receive second-year resources. ASPE's goal in supporting this phase is to enable some states to implement their innovative ideas, as well as to improve our understanding of the process of successful innovation. Planning grantees that receive additional funding will be expected to strengthen their activities and begin implementation. We anticipate that lessons learned from the planning and implementation process will assist program directors and state officials across the country in planning and implementing innovative projects. We plan to provide additional funding to 2-3 grantees. Each applicant may request funds in the range of $300,000-$500,000 per year for a maximum of three years. Decision on subsequent funding will be made on a noncompetitive basis based on the availability of funds, the adequate progress of the grantee, and such other similar criteria as the Department determines. Any requested additional funding will be reviewed to determine that the continuation of the project is consistent with the purposes of the announcement.

D. Technical Assistance and Process Evaluation

The Lewin Group will provide a limited amount of tailored technical assistance to the states. The independent process evaluation begun in the FY2002 phase of the State Innovation Grants initiative will be expanded to document the progress of the FY2003 grantees. The process evaluation will, at a minimum, address key research questions:

1. What are the issues and challenges associated with implementing and operating the funded projects?

2. What are the expected short and long-term implications of this intervention for clients, as well as for agencies involved?

3. What other innovative ideas/projects may grow out of each funded project and the program as a whole?

We expect that the work undertake through this evaluation will result in important operational lessons and sound information about implementing innovative approaches. ASPE expects that this investment will benefit low-income clients and families, state and local health and human service administrators, others who work with low-income people, and the general public.

Part II. Project and Applicant Eligibility

A. Eligible Applicants

This grant competition is limited to the FY2002 State Innovation Grant recipients (see Part I B).

B. Available Funds

Approximately $1 million is expected to be available from ASPE funds appropriated for fiscal year 2003. We estimate that this level of funding will support between 2-3 grants.

C. Budget and Project Period

Awards under this announcement will be made for 12-month budget periods. States may propose projects up to 36 months in duration. Subject to the availability of funds, grantees with projects which last longer then 12 months may be allowed to submit subsequent applications for additional funding, at a lower funding level, for additional budget period(s). Decisions on subsequent funding will be made on a noncompetitive basis based on the availability of funds, the adequacy of grantee progress, and such other similar criteria as the Department may determine. Any requests for additional funding also will be reviewed to ensure that the continuation of the project is consistent with the purpose of the announcement.

After a grant award is made, any purchase of computer hardware or software needs to be requested in writing by the grantee and approved in writing by the ASPE project officer and the grants officer. Purchases of computer hardware or software for routine uses will not be considered. See Part IV, Section II for more information on review criteria for MIS/Data System proposals.

No funds may be paid as profit to grantees or subgrantees, i.e., any amount is excess of allowable direct and indirect costs of the recipient (45 CFR 74.81). Grant monies can be used for client services to the extent that the cost of the services cannot be covered under existing programs.

D. Matching Requirements

Grantees must provide at least 10 percent of the total approved cost of the project. The total approved cost of the project is the sum of the Federal share and the non-Federal share. The non-Federal share may be met by cash or in-kind contributions, although applicants are encouraged to meet their match requirements through cash contributions. For example, a state with a project with a total budget (both direct and indirect costs) of $500,000 may request up to $450,000 in federal funds. Matching requirements cannot be met with funds from other federally-funded programs.

If a proposed project activity has approved funding support from other funding sources, the amount, duration, purpose, and source of the funds should be indicated in materials submitted under this announcement. If completion of the proposed project activity is contingent upon approval of funding from other sources, the relationship between the funds being sought elsewhere and from ASPE should be discussed in the budget information submitted as a part of the abstract. In both cases, the contribution that ASPE funds will make to the project should be clearly presented.

Part III. The Review Process

A. Intergovernmental Review

State Single Point of Contact (E.O. No. 12372)—DHHS has determined that this program is not subject to Executive Order 12372, “Intergovernmental Review of Federal Programs.” Applicants are not required to seek intergovernmental review of their applications within the constraints of E.O. 12372.

B. Initial Screening

Each application submitted under this program announcement will undergo a pre-review to determine that (1) the application was received by the closing date and submitted in accordance with the instructions in this announcement; (2) the applicant is eligible for funding; (3) the applicant has included assurances that they and other relevant participating organizations will be willing to field test strategies, based on their initial planning phase, and will participate in a process evaluation to document the steps taken from planning to implementation [this must be indicated on the page with the project abstract—see part IV, section E, 8(a)]; and (4) is within the page limit (see part IV, section A). Note that applications exceeding the page limit will not be reviewed further and will be ineligible for funding.

C. Competitive Review and Evaluation Criteria

Applications that pass the initial ASPE pre-review screening will be evaluated and rated by an independent review panel on the basis of specific evaluation criteria. The evaluation criteria are designed to assess the quality of the proposed project and to determine the likelihood of its success. The evaluation criteria are closely related and are considered as a whole in judging the overall quality of an application. Points are awarded only to applications that are responsive to the evaluation criteria as provided in this program announcement.

In order to ensure that the interests of the Federal Government are met, in making the final selections, ASPE may consider additional factors, in addition to the review criteria identified below. These additional factors may include such things as the applicants' readiness to transition from a planning to an implementation phase; capacity for continued and sustainable innovation; the potential impact of the innovation on the target population; the potential for building upon funding activities; the extent of partnerships with local entities; and the overall diversity of program activities within the applicant pool.

Proposed projects will be reviewed using the following evaluation criteria:

(1) Approach: (40 points)

The application will be judged on the extent to which the proposed approaches to project activities are adequate and appropriate to meet the objectives for projects in this program as set out in this announcement. As a part of the proposed approach, the application should identify the key, relevant organizations that will be involved in project activity and describe operational relationships that exist or will be put into place among the state, local public, private and non-profit agencies, and any other entities. Plans for cross-agency collaboration should be clearly explained.

Applicants should include a discussion of the proposed approach for implementing and operating the innovative strategies identifying specific steps to be undertaken. The approach should include a discussion of the time frame and action steps necessary before the implementation/demonstration phase of the project becomes operational (e.g., staff must be trained over the next six months; partnerships with local agencies, non-profits, employers, etc. must be established, etc.). Applicants should provide a detailed description of the steps necessary to transition from a planning grant to a larger demonstration grant. Applicants should also describe how the transition to a demonstration grant will affect goals and objectives. In particular, applicants should address whether or not goals and objectives identified for the planning phase will need to be modified for the transition to a demonstration phase. The application will be judged based on the extent to which the proposed project demonstrates a firm commitment of State, and/or local, and/or private funding and/or in-kind contributions dedicated to sustainability of the project, on the extent to which it is innovative, and on its potential for improving outcomes either in target populations or management of state programs.

The application should include a brief discussion of the location of the proposed project to be implemented. Maps or other graphic aids may be attached. Applications should include appropriate information about the size of the target population in the proposed site/area and other data or information available that relate to the project activity.

It may be necessary for agencies to provide data to Lewin or to HHS. The types of data possibly requested under this project may include administrative data, including data on program attendance, or other participation data. Data may also be collected from program managers and staff and from individuals participating in the demonstration program to be implemented. The proposed approach should indicate the availabilty of such data, the source of the data, the extent to which it can be obtained or accessed by the applicant organization, the existence of data exchange agreements with other agencies that are the source of needed data, and the willingness of the applicant agency to obtain data needed for the evaluation. Any limitations regarding data availability or access should be discussed, including any fees for data.

Any application for a project involving the use of personally-identifiable information about patients or clients that grantees collect should describe how the project intends to address the privacy and confidentiality issues presented by the data collection. The description should not include details of collection, consent, security and the like. It should describe the organizational and planning approaches that will ensure that the project addresses these issues in a thoughtful way, respectful of the patients' and clients' privacy and dignity, in accord with all applicable law, and, if appropriate, taking particular account of the special privacy issues created by systems that integrate or link administrative data across several programs that serve the same population.

(2) Objectives and Need for Assistance: (15 points)

The applications should describe (1) issues and challenges which the applicant has considered and dealt with to date in designing and/or implementing strategies for system improvements, including an assessment of the current delivery system and the most urgent needs of the project's target population or system, and (2) the proposed strategy for the transition from a planning to a demonstration phase and ways in which it will significantly enhance innovative services for the target population. (3) A description of existing resources and programs for the target population, barriers in the current delivery system, and gaps in service delivery should also be included. The applicant should include any supporting data or available information gained during the planning phase that further demonstrates why the innovation is needed, and how the planning phase contributed to the development of innovative ways to serve the target populations. Applications will be judged on the relevance of the discussion to the program objectives set out within this announcement. The application will also be judged on the extent to which the innovation proposed will help to address the target population's needs, build the knowledge base, and have applicability to a range of states and localities.

(3) Results or Benefits Expected: (15 points)

The application should describe how the proposed implementation phase will address the identified needs and improve the delivery of services or activities. The application should identify specific outcome measures (goals) to be achieved through implementation of the innovation.

Goals should be tied to discrete, measurable objectives. Examples include: increase in the proportion of participants entering jobs at higher wage levels; increased partnerships between agencies and employers to support working families; increased access to health and human services benefits; increased integration of programs or services targeting clients with multiple barriers; increased innovation related to “consumer-directed” approaches to home and community-based long-term care services; more rapid access to program and client date; etc. The application will be judged on the extent to which the proposed program design or policies can be expected to achieve the stated project goals.

In committing to participate in a process evaluation, applicants should be able to report baseline information, including the size of the target population and the expected number of individuals or families to be served by the project, as appropriate. Interim and final program reports will be required.

(4) Staff and Position Data (10 Points)

The application should include a listing of key individuals who will oversee and work on the project, specifically identifying the key individuals from the applicant agency who will serve as the primary contacts for ASPE and contractor staff, indicating their positions, areas of responsibility and authority, and the proportion of time that will be available for project activity.

Applications will be judged on the extent to which individuals with appropriate authority, positions, and experience will work on the project and the adequacy of time allocated for key staff to the project. In addition, the application will be judged on the extent to which there is a commitment to the project evidenced by the participation of senior state and local officials and managers and on the adequacy of the proposed plans for obtaining advice and direction regarding project work and involvement and assistance to resolve issues or problems, as appropriate.

(5) Adequacy of Workplan (10 points)

Applicants should provide details about how planning projects will be implemented. Applications should delineate tasks for completing the work, indicate staff assignments for each task, and provide a schedule for completing each task. Applicants should also describe mechanisms that will be put in place to maintain quality control over the project. The application will be judged on the appropriateness and timeliness of the work schedule and tasks, staff assignments, and quality assurance plan.

(6) Budget Appropriateness (10 points)

The application must include a narrative description and justification for proposed budget line items and demonstrate that the project's costs are adequate, reasonable and necessary for the activities or personnel to be supported. The budget and narrative should have a clear relationship to the approach. The application will be judged on the extent to which adequate staffing and other resources will be provided as required to successfully carry out the tasks and activities proposed. (Applicants should refer to the budget information presented in the Standard Forms 424 and 424A, which can be found at http://aspe.hhs.gov/funding.htm).

Part IV. The Application

A. Application Development

In order to be considered for an award under this program announcement, an application must be submitted on the forms supplied and in the manner prescribed by ASPE. Application materials including forms and instructions are attached to this announcement. Additional copies are available from to be determined.

Applicants should refer to the attached application kit for instructions regarding which forms, certifications and assurances are required and for instructions on completing the forms and preparing and submitting the application. Each application package must include an original and two copies of the complete application. All pages of the narrative must be sequentially numbered and unbound.

Applications must be received in the following format:

• 12 point font size

• Single line spacing

• 1 inch top, bottom, left, and right margins

• Applications should not exceed 20 pages. Page limits apply to items Section IV, D, 8(b-e) only; page limits do not include standard forms, certificates, and the like. Forms are available from GRANTS OFFICER TO BE DETERMINED or may be obtained electronically from the ASPE World Wide Web site: http://aspe.hhs.gov/funding.htm. Applications that are not received in the format described above and/or exceed the page limit, will not be reviewed. Applicants are requested to be concise. Applicants are encouraged not to attach or include bound reports or other documents.

B. Application Submission

1. Mailed applications must be postmarked by midnight three days prior to the closing date. Otherwise, they will be classified as late.

2. Deadline. The closing date (deadline) for submission of applications is August 18, 2003. Please email Brenda Benesch at Brenda.Benesch@hhs.gov by July 8, 2003 to inform the government of your intent to submit an application. Providing notice of intent to submit is not a requirement for submitting an application. However, a notice of intent to submit will help the Federal government in the planning for the review process. USPS mailed applications shall be considered as meeting the announced deadline if they are either received on or before the deadline date or postmarked by midnight three days prior to the closing date and received by ASPE in time for the independent review (within 2 weeks of the deadline): to be determined.

If applicants use a commercial mail service, they must ensure that a legibly dated, machine produced postmark of a commercial mail service is affixed to the envelope/package containing the application. To be acceptable as proof of timely mailing, a postmark from a commercial mail service must include the logo/emblem of the commercial mail service company and must reflect the date the package was received by the commercial mail service company from the applicant. Private metered postmarks shall not be acceptable as proof of timely mailing. (Applicants are cautioned that express/overnight mail services do not always deliver as agreed.)

Applications hand-carried by applicants, applicant couriers, or by other representatives of the applicant shall be considered as meeting the announced deadline if they are received on or before the deadline date, between the hours of 8 a.m. and 4:30 p.m. EST, at: to be determined. The address must appear on the envelope/package containing the application with the note “Attention: to be determined” (Applicants are cautioned that express/overnight mail services do not always deliver as agreed).

Applications transmitted by fax or through other electronic means will not be accepted regardless of date or time of submission or receipt.

3. Late applications. Applications that do not meet the criteria above are considered late applications. To be determined shall notify each late applicant that its application will not be considered in the current competition.

4. Extension of deadlines. NICHD may extend an application deadline when circumstances such as acts of God (floods, hurricanes, etc.) occur, or when there are widespread disruptions of the mail service, or in other rare cases. Determinations to extend or waive deadline requirements rest with grants officer to be determined, the ASPE Grants Management Officer.

C. Disposition of Applications

1. Approval, disapproval, or deferral. On the basis of the review of the application, the Assistant Secretary will either (a) approve the application as a whole or in part; (b) disapprove the application; or (c) defer action on the application for such reasons as lack of funds or a need for further review.

2. Notification of disposition. The Assistant Secretary for Planning and Evaluation will notify the applicants of the disposition of their applications. If approved, a signed notification of the award will be sent to the business office named in the ASPE checklist.

3. The Assistant Secretary's Discretion. Nothing in this announcement should be construed as to obligate the Assistant Secretary for Planning and Evaluation to make any awards whatsoever. Awards and the distribution of awards among the priority areas are contingent on the needs of the Department at any point in time and the quality of the applications that are received.

D. Components of a Complete Application

A complete application consists of the following items in this order:

1. Application for Federal Assistance (Standard Form 424);

2. Budget Information—Non-construction Programs (Standard Form 424A);

3. Assurances—Non-construction Programs (Standard Form 424B);

4. Table of Contents;

5. Budget Justification for Section B Budget Categories;

6. Proof of Non-profit Status, if appropriate;

7. Copy of the applicant's Approved Indirect Cost Rate Agreement, if necessary;

8. Project Narrative Statement, organized in six sections, addressing the following topics (b) through (e) are limited to twenty (20) single-spaced pages:

(a) Abstract (must include assurance of willingness to participate in a process evaluation),

(b) Goals, Objectives and Usefulness of the Project,

(c) Methodology and Design,

(d) Background of the Personnel and Organizational Capabilities,

(e) Work plan (timetable), and

(f) Budget narrative.

9. Certification Regarding Drug-Free Workplace;

10. Certification Regarding Debarment, Suspension, or other Responsibility Matters;

11. Certification and, if necessary, Disclosure Regarding Lobbying;

12. Supplement to Section II—Key Personnel;

13. Application for Federal Assistance Checklist.

Standard forms are available from GRANTS OFFICER TO BE DETERMINED or may be obtained electronically from the ASPE world wide web site: http://aspe.hhs.gov/funding.htm

Part V. Questions and Answers

1. Who May Submit an Application Under This Announcement?

State agencies that received ASPE State Innovation Planning grants in FY 2002 are eligible to apply.

The following planning grantees are eligible to apply for an FY 2003 ASPE State Innovation Demonstration grant: (1) Alaska Department of Health and Social Services—“Planning for Comprehensive Early Childhood Mental Health in Alaska”; (2) Arizona Department of Health Services—“Arizona Diabetic Patient Self-Management Project”; (3) Arkansas Department of Human Services—“Improving Transitions from the Institutions into the Community”; (4) Delaware Health and Social Services—“Self-Directed Supports for Community Living”; (5) District of Columbia Department of Health—“DC Youth Violence Prevention Initiative—”; (6) Iowa Department of Human Services—“Healthy Marriage/Responsible Fatherhood”; (7) Kansas Department of Social and Rehabilitation Services—“Child Welfare Wrap Around Service Delivery”; (8) Maryland Department of Aging—“Changing Interagency Service Delivery Systems to Help Older Public Housing Residents”; (9) New Hampshire State Department of Health and Human Services—“Granite State Data Archive”; and (10) South Carolina Department of Social Services—“Keep Them Home: An Adult Protective Service Program”.

2. How Much Money Is Available for Grants Under This Announcement?

The total that is available under this announcement is approximately $1 million. ASPE anticipates that individual awards will be between $300,000-$500,000 per year.

3. How Many Awards Will Be Made or How Many Applications Will Be Approved?

ASPE anticipates awarding 2-3 grants.

4. Are There Page Limits or Other Page Guidelines for the Narrative Section of the Application

Yes, there are page limits for the applications. Applicants are requested to be concise. The announcement indicates that applications are not expected to be lengthy (see Part III, Section C). Applications must be no longer than 20 pages. Applications must be typed in 12 point font size, with single line spacing, and 1 inch top, bottom, right, and left margins. Applications that exceed the page limits and other guidelines will not be considered.

5. Where Should Applications To Be Sent?

An original and two copies of the complete application should be sent to: To be determined.

6. What Is the Application Submission Deadline?

Applications must be received or postmarked by August 18, 2003.

7. What Is the Deadline for Applications Sent via Overnight Courier Services?

Applications that are hand-carried will be considered as meeting the deadline if they are received on or before the deadline date between the hours of 8 a.m. and 4:30 p.m. EST at NICHD, Grants Management Branch, U.S. Department of Health and Human Services, 6100 Executive Boulevard, Room 8A01 Bethesda, Maryland 20892-7510 (Regular Mail) or Rockville, Maryland 20852 (Express Mail), Phone: (301) 435-6997, Fax: (301) 402-0915. The address must include the designation: “Attention: Grants Officer To Be Determined.” (Applicants are cautioned that express/overnight mail services do not always deliver as agreed.)

8. May Applications Be Faxed or Sent Electronically?

No. Applications transmitted by fax or through other electronic means will not be accepted regardless of date or time of submission or receipt.

9. Where Can Additional Copies of the Announcement and/or Forms Be Obtained?

The complete package, announcement and standard forms, may be obtained by calling to be determined.

Dated: June 9, 2003.
William F. Raub,
Acting Assistant Secretary for Planning and Evaluation.

[FR Doc. 03-15385 Filed 6-17-03; 8:45 am]

BILLING CODE 4154-05-M